DEPARTMENT OF ENERGY

Federal Energy Regulatory Commission

Combined Notice of Filings #2

Take notice that the Commission received the following electric rate filings:

Docket Numbers: ER10-1821-003.

Applicants: Goshen Phase II LLC.

Description: Notification of Non-Material Change in Status of Goshen Phase II LLC.

Filed Date: 11/7/12.

Accession Number: 20121107-5061.

Comments Due: 5 p.m. ET 11/28/12.

Docket Numbers: ER10-2331-012; ER10-2343-012; ER10-2319-011; ER10-2320-0011; ER10-2317-010; ER10-2322-012; ER10-2324-011; ER10-2325-010; ER10-2332-011; ER10-2326-012; ER10-2327-013; ER10-2328-011; ER11-4609-010; ER10-2330-012.

Applicants: J.P. Morgan Ventures Energy Corporation, J.P. Morgan Commodities Canada Corporation, BE Alabama LLC, BE Allegheny LLC, BE CA LLC, BE Ironwood LLC, BE KJ LLC, BE Louisiana LLC, BE Rayle LLC, Cedar Brakes I, L.L.C., Cedar Brakes II, L.L.C., Central Power & Lime LLC, Triton Power Michigan LLC, Utility Contract Funding, L.L.C.

Description: JPMorgan Sellers' Notice of Non-Material Change in Status re: Minonk.

Filed Date: 11/7/12.

Accession Number: 20121107-5079.

Comments Due: 5 p.m. ET 11/28/12.

Docket Numbers: ER10-2460-001; ER10-2461-001; ER12-682-002; ER10-2463-001; ER11-2201-005; ER12-1311-001; ER10-2466-002; ER11-4029-001.

Applicants: Evergreen Wind Power, LLC, Canandaigua Power Partners, LLC, Evergreen Wind Power V, LLC, Evergreen Wind Power III, LLC, Stetson Wind II, LLC, Vermont Wind, LLC, Stetson Holdings, LLC, Erie Wind, LLC, Canandaigua Power Partners II, LLC.

Description: Supplement to Notice of Change in Status of Canandaigua Power Partners LLC, et al.

Filed Date: 10/15/12.

Accession Number: 20121015-5168.

Comments Due: 5 p.m. ET 11/19/12.

Docket Numbers: ER10-2460-003; ER10-2461-003; ER12-682-004; ER10-2463-003; ER11-2201-007; ER12-1311-003; ER10-2466-004; ER11-4029-003.

Applicants: Canandaigua Power Partners, LLC, Canandaigua Power Partners II, LLC, Erie Wind, LLC, Evergreen Wind Power, LLC, Evergreen Wind Power III, LLC, Stetson Holdings, LLC, Stetson Wind II, LLC, Vermont Wind, LLC.

Description: Notice of Change in Status of Canandaigua Power Partners, LLC, et al.

Filed Date: 11/7/12.

Accession Number: 20121107-5082.

Comments Due: 5 p.m. ET 11/28/12.

Docket Numbers: ER12-162-005; ER11-3876-007; ER11-2044-008; ER10-2611-005.

Applicants: Bishop Hill Energy II LLC, Cordova Energy Company LLC, MidAmerican Energy Company, Saranac Power Partners, L.P.

Description: Notice of Change in Status of Bishop Hill Energy II LLC, et al.

Filed Date: 11/7/12.

Accession Number: 20121107-5081.

Comments Due: 5 p.m. ET 11/28/12.

Docket Numbers: ER12-2145-002; ER10-2834-002; ER11-2905-001; ER11-2904-001; ER10-2821-002.

Applicants: Munnsville Wind Farm, LLC, Pioneer Trail Wind Farm, LLC, Settlers Trail Wind Farm, LLC, Stony Creek Wind Farm, LLC, EC&R O&M, LLC.

Description: EC&R O&M, LLC, et al. submits Notice of Change in Status.

Filed Date: 11/6/12.

Accession Number: 20121106-5171.

Comments Due: 5 p.m. ET 11/27/12.

Docket Numbers: ER13-321-001.

Applicants: Fairless Energy, LLC.

Description: Fairless Energy, LLC submits tariff filing per 35: Amended Baseline Single Market-Based Rate Tariff to be effective 11/8/2012.

Filed Date: 11/7/12.

Accession Number: 20121107-5044.

Comments Due: 5 p.m. ET 11/28/12.

Docket Numbers: ER13-336-000.

Applicants: PJM Interconnection, L.L.C.

Description: Original Service Agreement No. 3416; Queue No. X2-085 to be effective 10/24/2012.

Filed Date: 11/7/12.

Accession Number: 20121107-5033.

Comments Due: 5 p.m. ET 11/28/12.

Docket Numbers: ER13-337-000.

Applicants: Florida Power Corporation.

Description: Florida Power Corporation submits Notice of Cancellation of Rate Schedule No. 207, Power Sales Agreement with Gainesville Regional Utilities.

Filed Date: 11/7/12.

Accession Number: 20121107-5076.

Comments Due: 5 p.m. ET 11/28/12.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 7, 2012.
Nathaniel J. Davis, Sr.,
Deputy Secretary.

[FR Doc. 2012-27893 Filed 11-15-12; 8:45 am]

BILLING CODE 6717-01-P